ADMINISTRATIVE CONFERENCE OF THE UNITED STATES

Notice of Public Meeting of the Assembly of the Administrative Conference of the United States

AGENCY: Administrative Conference of the United States.

ACTION: Notice.

SUMMARY: The Assembly of the Administrative Conference of the United States will meet during a one-day hybrid plenary session to consider three proposed recommendations and to conduct other business. Written comments may be submitted in advance, and the meeting will be accessible to the public.

DATES: The meeting will take place on Thursday, June 12, 2025, from 9:30 a.m.-3 p.m. (ET). The meeting may adjourn early if all business is finished.

ADDRESSES: For those attending in person, the meeting will be held at The George Washington University Law School in the Jacob Burns Moot Court Room, 2000 H Street NW, Washington, DC 20052. There will be a virtual attendance option. Information on how the public can access the meeting will be available on the agency's website prior to the meeting at https://www.acus.gov/event/83rd-plenary-session.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: Three proposed recommendations will be considered by the Assembly. In addition, there will be updates on past, current, and pending Conference initiatives, as well as other business. Summaries of the recommendations appear below:

Agency Investigative Procedures. This proposed recommendation provides agencies with best practices to promote accuracy, efficiency, and fairness in investigations of specific regulated entities. It provides guidance on initiating investigations; exchanging and considering evidence and arguments; issuing subpoenas and warrants; and deciding whether to terminate an investigation, negotiate with the subject of an investigation, or pursue an action in an administrative or judicial tribunal.

Consultation with State, Local, and Tribal Governments in Regulatory Policymaking. This proposed recommendation provides agencies with best practices for consulting with state, local, and tribal governments when they make or implement regulatory policies that have federalism or tribal implications. It encourages agencies to develop policies on consultation; designate officials responsible for overseeing and facilitating consultation; publicize consultation opportunities; and adopt procedures to consult effectively with state, local, and tribal officials throughout the development and implementation of regulatory policies.

Public Participation in Agency Adjudication. This proposed recommendation provides agencies with best practices regarding public participation in agency adjudicative proceedings. It provides guidance on circumstances in which public participation may be appropriate; options for public participation; and methods for facilitating public participation effectively.

Additional information about the proposals and the agenda, as well as any changes or updates to the same, can be found at the 83rd Plenary Session page on the Conference's website prior to the start of the meeting at https://www.acus.gov/event/83rd-plenary-session.

Public Participation: The Conference welcomes the virtual attendance of the public at the meeting. Members of the public wishing to view the meeting are asked to RSVP online at the 83rd Plenary Session web page shown above no later than two days before the meeting to ensure adequate bandwidth. A link to a livestream of the meeting will be posted the morning of the meeting on the 83rd Plenary Session web page. A video recording of the meeting will be available on the Conference's website shortly after the conclusion of the event at https://youtube.com/@administrativeconferenceof9987.

Written Comments: Persons who wish to comment on any of the proposed recommendations may do so by submitting a written statement by email to info@acus.gov with “June 2025 Plenary Session Comments” in the subject line, or by U.S. Mail addressed to: June 2025 Plenary Session Comments, Administrative Conference of the United States, Suite 706 South, 1120 20th Street NW, Washington, DC 20036. Written submissions must be received no later than 10:00 a.m. (ET), Friday, June 6, 2025, to ensure consideration by the Assembly.

(Authority: 5 U.S.C. 595)

Dated: April 29, 2025.
Shawne McGibbon,
General Counsel.

[FR Doc. 2025-07668 Filed 5-1-25; 8:45 am]

BILLING CODE 6110-01-P